DEPARTMENT OF COMMERCE

National Oceanic and Atmospheric Administration

[I.D. 082206A]

Endangered Species; File No. 1563

AGENCY: National Marine Fisheries Service (NMFS), National Oceanic and Atmospheric Administration (NOAA), Commerce.

ACTION: Notice; issuance of permit.

SUMMARY: Notice is hereby given that North Carolina Division of Marine Fisheries (NCDMF; Mr. Blake Price, Principal Investigator), P.O. Box 769, Morehead City, North Carolina 28557, has been issued a permit to take threatened and endangered sea turtles for purposes of scientific research.

ADDRESSES: The permit and related documents are available for review upon written request or by appointment in the following office(s):

Permits, Conservation and Education Division, Office of Protected Resources, NMFS, 1315 East-West Highway, Room 13705, Silver Spring, MD 20910; phone (301) 713-2289; fax (301) 427-2521; and

Southeast Region, NMFS, 263 13th Ave South, St. Petersburg, FL 33701; phone (727) 824-5312; fax (727) 824-5309.

FOR FURTHER INFORMATION CONTACT: Carrie Hubard or Patrick Opay, (301)713-2289.

SUPPLEMENTARY INFORMATION: On March 17, 2006, notice was published in the Federal Register (71 FR 13816) that a request for a scientific research permit to take loggerhead (Caretta caretta), green (Chelonia mydas), Kemp's ridley (Lepidochelys kempii), hawksbill (Eretmochelys imbricata), and leatherback (Dermochelys coriacea) sea turtles had been submitted by the above-named organization. The requested permit has been issued under the authority of the Endangered Species Act of 1973, as amended (ESA; 16 U.S.C. 1531 et seq.) and the regulations governing the taking, importing, and exporting of endangered and threatened species (50 CFR parts 222-226).

The NCDMF will be testing two types of large mesh gillnets to ascertain which type of net will reduce sea turtle interactions while maintaining targeted catch rates for southern flounder (Paralichthys lethostigma). Both nets will be constructed of 0.52 mm diameter monofilament with 6-inch (15.2 cm) mesh webbing, but the control net is 25 meshes deep while the low profile net is twelve meshes deep. Control nets have additional floatation every six feet (1.8 m) and tie downs every 30 feet (9.1 m); experimental nets have neither. NCDMF plans to conduct 150 paired net deployments (one of each type of net). To follow fishing protocols, nets will be set at dusk and retrieved in the early morning. Captured sea turtles will be examined for any possible injuries and held for approximately two hours to ensure they are healthy before being transported away from the fishing area and released. Turtles will be identified to species, measured, photographed, and flipper and PIT tagged. Any comatose or debilitated turtles will be transported to a rehabilitation center. During the life of the permit, the applicant is authorized to capture 23 Kemp's ridley, 23 loggerhead, 22 green, 2 hawksbill, and 2 leatherback sea turtles. Of the captured turtles, 11 Kemp's, 11 loggerhead, 11 green, 1 hawksbill, and 1 leatherback may be mortalities. Research will be conducted in Pamlico Sound, North Carolina and the permit expires in December 2007.

Issuance of this permit, as required by the ESA, was based on a finding that such permit (1) was applied for in good faith, (2) will not operate to the disadvantage of any endangered or threatened species, and (3) is consistent with the purposes and policies set forth in section 2 of the ESA.

Dated: August 29, 2006.
P. Michael Payne,
Chief, Permits, Conservation and Education Division, Office of Protected Resources, National Marine Fisheries Service.

[FR Doc. E6-14661 Filed 9-5-06; 8:45 am]

BILLING CODE 3510-22-S